Proclamation 10383 of April 29, 2022

National Hurricane Preparedness Week, 2022

By the President of the United States of America

A Proclamation

Each May, we raise awareness about the threat posed by hurricanes so that Americans living in potentially affected areas are more prepared for these powerful storms. Over the last several years, hurricanes, typhoons, and tropical storms have occurred with greater frequency and intensity, causing tremendous destruction across the United States. From the Gulf Coast and Caribbean Territories to New England, Hawaii, and the Pacific Territories, severe winds and flooding have cost lives, damaged homes, and caused financial setbacks for families. During National Hurricane Preparedness Week, we recommit to improving our Nation's resilience to hurricanes and to stopping climate change from exacerbating the impact of climate-related catastrophes in the future.

Last year was the third most active hurricane season—and one of the costliest ever recorded in the Atlantic basin. Hurricane Ida made landfall in Louisiana and moved northeast, causing severe weather and flooding across Pennsylvania and New York. Hurricane Henri, the first hurricane to hit the northeast in 30 years, killed more than a 100 people and caused billions of dollars in damages. These and other hurricanes devastated infrastructure, economies, and communities in their path. Hurricanes also take an emotional toll—especially on low-income communities and communities of color, who are more likely to live in areas that are vulnerable to climate and weather hazards. I witnessed the aftermath of these storms firsthand in Louisiana, New Jersey, and New York as I walked with survivors through their devastated communities.

My Administration is committed not only to recovering and rebuilding in the aftermath of these climate-related events but also to preparing for them by strengthening the resiliency of our infrastructure and our communities. That is why I was proud to sign the historic Bipartisan Infrastructure Law last year. The Bipartisan Infrastructure Law includes long-overdue investments in coastal resilience, advances our understanding and forecasting of dangerous weather events, improves how we communicate forecasts to the public, and enhances the resiliency of underserved communities.

In addition, I have proposed more than $18 billion for climate resilience programs across the Federal Government in next year's budget. Federal investments will also incorporate new flood standards so that our communities are more resilient to flooding. We are strengthening Federal coordination on meteorological services. We are working with State and local governments to strengthen and adopt building codes so, when disasters strike, buildings and the people in them are safer.

But the Government cannot address hurricane and extreme weather resilience alone—every individual and family living in a part of the country that is threatened by these storms has an important role to play. Staying informed, making sure your insurance policies are up to date, and having an emergency kit and plan ready are all important preparation steps. More information on how to prepare for hurricane season is available on the Federal Emergency Management Agency's Ready.gov website.

As we enter hurricane season, let us recommit to working together so that we can save lives; reduce damage to our homes, communities, and infrastructure; and recover more quickly when hurricanes and tropical storms strike.

NOW, THEREFORE, I, JOSEPH R. BIDEN JR., President of the United States of America, by virtue of the authority vested in me by the Constitution and the laws of the United States, do hereby proclaim May 1 through May 7, 2022, as National Hurricane Preparedness Week. I urge all Americans to help build our climate-resilient Nation, so that individuals and organizations are empowered to take action to make their communities more resilient to weather disasters. I call on our Federal, State, Tribal, territorial, and local government agencies to share information that will protect lives and property.

IN WITNESS WHEREOF, I have hereunto set my hand this twenty-ninth day of April, in the year of our Lord two thousand twenty-two, and of the Independence of the United States of America the two hundred and forty-sixth.

[FR Doc. 2022-09763

Filed 5-4-22; 8:45 am]

Billing code 3395-F2-P